NUCLEAR REGULATORY COMMISSION

10 CFR Parts 50, 52, and 100

[Docket No. PRM-50-99; NRC-2011-0189]

Enhancing Reactor Safety Petition for Rulemaking

AGENCY: Nuclear Regulatory Commission.

ACTION: Petition for rulemaking; denial.

SUMMARY: The U.S. Nuclear Regulatory Commission (NRC) is denying a petition for rulemaking (PRM), dated July 26, 2011, submitted by the Natural Resources Defense Council, Inc. (NRDC or the petitioner). The petitioner requested that the NRC amend its regulations to require nuclear facilities to confirm seismic and flooding hazards every 10 years and to address any new and significant information. The petition was docketed by the NRC on August 4, 2011, and was assigned Docket No. PRM-50-99. The NRC did not request public comment on this petition because the staff had sufficient information to review the issues raised in the PRM. The NRC is denying the petition because the NRC is addressing the issues raised in the petition using an approach other than rulemaking.

DATES: The docket for PRM-50-99 is closed on February 6, 2019.

ADDRESSES: Please refer to Docket ID NRC-2011-0189 when contacting the NRC about the availability of information for this action. You may obtain publicly-available information related to this action by any of the following methods:

• Federal Rulemaking Website: Go to http://www.regulations.gov and search for Docket ID NRC-2011-0189. Address questions about NRC rulemaking dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Solomon Sahle, Office of Nuclear Material Safety and Safeguards, telephone: 301-415-3781; email: Solomon.Sahle@nrc.gov, or Joseph Sebrosky, Office of Nuclear Reactor Regulation, telephone: 301-415-1132; email: Joseph.Sebrosky@nrc.gov. Both are staff of the U.S. Nuclear Regulatory Commission, Washington, DC 20555-0001.

SUPPLEMENTARY INFORMATION:

I. The Petition

Section 2.802 of title 10 of the Code of Federal Regulations (10 CFR), “Petition for rulemaking—requirements for filing,” provides an opportunity for any interested person to petition the Commission to issue, amend, or rescind any regulation. On July 26, 2011, the NRC received a PRM from the NRDC. The petitioner requested that the NRC amend its regulations to require nuclear facilities licensed under 10 CFR parts 50, 52, and 100, and other applicable regulations, to confirm seismic hazards and flooding hazards every 10 years and to address any new and significant information, which would include, if necessary, updating the design basis for structures, systems, and components (SSCs) important to safety to protect against the updated hazards.

The petitioner cited Recommendation 2.2 (R2.2) of Section 4.1.1 of the NRC's post-Fukushima Near-Term Task Force report (ADAMS Accession No. ML11186A950) as the rationale and basis for the PRM. R2.2 recommended that licensees address any new and significant information and, if necessary, take actions that could include updating the design basis for SSCs important to safety to protect against the updated hazards.

On September 20, 2011 (76 FR 58165), the NRC published a notice of docketing for several PRMs from the NRDC in the Federal Register, which included Docket No. PRM-50-99 (Seismic Hazards and Flooding Hazards).¹ The only PRM being addressed in this Federal Register notice is PRM-50-99.

¹ The notice also provided Docket Nos. PRM-50-97 (Emergency Preparedness Enhancements for Prolonged Station Blackouts), PRM-50-98 (Emergency Preparedness Enhancements for Multiunit Events), PRM-50-100 (Spent Nuclear Fuel Pool Safety), PRM-50-101 (Station Blackout Mitigation), and PRM-50-102 (Training on Severe Accident Mitigation [sic] Guidelines). The staff reviewed the other PRMs separately as part of the Mitigation of Beyond-Design-Basis Events draft final rule (see SECY-16-0142, dated December 15, 2016 (ADAMS Accession No. ML16291A186)).

II. Reasons for Denial

The NRC is denying the petition because the staff concluded in SECY-15-0137, “Proposed Plans for Resolving Open Fukushima Tier 2 and 3 Recommendations,” Enclosure 2 (ADAMS Accession No. ML15254A006) that the NRC can meet the intent of R2.2 (which is the issue raised in the petition) using an approach other than rulemaking. In the staff requirements memorandum (SRM) for SECY-15-0137, dated February 8, 2016 (ADAMS Accession No. ML16039A175), the Commission approved the staff's proposed closure plans, including the staff's plans to use an enhanced process—other than rulemaking—to identify and evaluate new information related to external hazards.

Subsequently, in “Recommendation 2.2: Plan to Ensure Ongoing Assessment of Natural Hazard Information” (ADAMS Accession No. ML16286A569), Enclosure 2 of SECY-16-0144, “Proposed Resolution of Remaining Tier 2 and 3 Recommendations Resulting from the Fukushima Dai-ichi Accident” (ADAMS Accession No. ML16286A552), the staff provided the Commission with additional details regarding the staff's plan to enhance existing processes to ensure the ongoing assessment of new information and reconfirmation of natural hazards at nuclear power plants in a manner consistent with R2.2. As noted in Enclosure 2, while R2.2 focused on seismic and flooding hazards, the proposed framework is intended to accommodate a range of natural hazards including earthquakes, flooding, and extreme weather, such as high winds. In the SRM associated with SECY-16-0144, dated May 3, 2017 (ADAMS Accession No. ML17123A453), the Commission approved the staff's recommendations for the development of these process enhancements.

The staff is implementing the process enhancements described in Enclosure 2 of SECY-16-0144 via a process that the staff subsequently identified as the “Process for Ongoing Assessment of Natural Hazard Information” (POANHI). The staff's implementation of these process enhancements is ongoing. A cross-agency team has been formed to implement the POANHI. The team is developing procedures and has begun testing and populating the Natural Hazards Information Digest. The completion and implementation date for POANHI is October 2019.

In summary, the NRC is denying the petition because the staff is addressing the issue raised in the petition through the enhancement of existing NRC processes and the development of associated staff procedures to ensure that the staff proactively and routinely aggregates and assesses new information related to natural hazards (including, but not limited to, seismic and flooding hazards). The Commission-approved approach for ensuring the ongoing, routine, proactive, and systematic assessment of natural hazards information is described in SECY-15-0137 and SECY-16-0144 and associated staff requirements memorandums dated February 8, 2016, and May 3, 2017.

III. Stakeholder Interactions

The NRC held several public meetings to solicit input from stakeholders during the development of SECY-15-0137. This included a public meeting held on October 6, 2015, in which the NRC staff provided the Advisory Committee on Reactor Safeguards (ACRS) Subcommittee on Fukushima with an overview of the staff's plans to resolve all open Near-Term Task Force Tier 2 and 3 recommendations. The staff also discussed these plans with the ACRS Full Committee on November 5, 2015. In addition, the staff provided an overview of its proposed resolution plans for all of the open Tier 2 and 3 recommendations during a Category 2 public meeting held on October 20, 2015. Further, the staff briefed the Commission on the status of Tier 2 and 3 activities during public meetings held on November 17, 2015, and May 17, 2016.

In addition to the meetings discussed above, the NRC held a public meeting of the Fukushima Joint Steering Committee on August 25, 2016, where the NRC discussed the framework for the ongoing assessment of natural hazards information, described in Enclosure 2 of SECY-16-0144, with external stakeholders (ADAMS Accession No. ML16252A221).

On September 22, 2016, the NRC issued a document titled, “White Paper for Staff Assessment of Fukushima Lessons Learned Associated with Other Natural Hazards, Periodic Confirmation of Natural Hazards, and Real-Time Radiation Monitoring” (ADAMS Accession No. ML16230A384). The NRC staff briefed the ACRS Subcommittee on Fukushima on October 19, 2016, and the ACRS Full Committee on November, 30, 2016, on the topics covered in the white paper.

IV. Conclusion

For the reasons cited in this document, the NRC is denying PRM-50-99. As explained above, the petition relied upon R2.2 of the NRC's post-Fukushima Near-Term Task Force report. PRM-50-99 did not present any significant new information or arguments.

Dated at Rockville, Maryland, this 31st day of January, 2019.
For the Nuclear Regulatory Commission.
Annette L. Vietti-Cook,
Secretary of the Commission.

[FR Doc. 2019-01182 Filed 2-5-19; 8:45 am]

BILLING CODE 7590-01-P